DEPARTMENT OF HEALTH AND HUMAN SERVICES

[Document Identifier: OS-0990-New]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: Patient Perceptions of the Delivery of Health Care Through the Use of an Electronic Health Record (New)—OMB No. 0990-NEW—Office of the National Coordinator for Health Information Technology.

Abstract: Recognizing the potential of health information technology (IT), Congress incorporated the Health Information Technology for Economic and Clinical Health (HITECH) Act as part of the American Recovery and Reinvestment Act of 2009, and allocated $19.2 billion to meet the goal of meaningful use of certified EHRs for each person in the United States by 2014. The HITECH Act builds on existing federal efforts to encourage health IT adoption and use, and contains provisions that are expected to promote the widespread adoption of health IT among health care providers. Health IT experts agree that HITECH stimulus funds are likely to improve how physicians practice medicine for Medicare and Medicaid beneficiaries and, ultimately, for advancing patient-centered medical care for all Americans. However, there is an evidence gap about patients' preferences and perceptions of delivery of health care services by providers who have adopted EHR systems in their practices.

The goal of the Patient Perceptions of the Delivery of Health Care through the Use of an Electronic Health Record (Patient Perceptions of EHR) Study is to help policymakers understand how primary care practices' use of electronic health records (EHRs) affects consumers' satisfaction with (1) their medical care, (2) communication with their doctor, and (3) coordination of care. The research questions for the proposed Patient Perceptions of EHR Study are motivated by a concern that patients may have negative experiences as practices begin to use EHRs.

Estimated Annualized Burden Table
Forms (if necessary) | Type of respondent | Number of respondents | Number of responses per respondent | Average burden hours per response | Total burden hours
Screening and Recruitment Form for Primary Care Practices | Staff at Primary Care Practices | 84 | 1 | 15/60 | 21
Patient Survey | Patients at Primary Care Practices | 1,680 | 1 | 15/60 | 420
Patient Focus Group | Patients at Primary Care Practices | 40 | 1 | 1.5 | 60
Total |  | 1,804 | 1 |  | 501

Seleda Perryman,
Office of the Secretary, Paperwork Reduction Act Reports Clearance Officer.

[FR Doc. 2010-2125 Filed 2-1-10; 8:45 am]

BILLING CODE 4150-45-P